DEPARTMENT OF ENERGY

Oakland Operations Office; Energy Technology Engineering Center Environmental Restoration and Waste Management Activities

AGENCY: Oakland Operations Office, Department of Energy.

ACTION: Notice of intent to prepare an environmental assessment and hold public scoping meetings.

SUMMARY: The Department of Energy (DOE) Oakland Operations Office (OAK) is announcing its intent to prepare an Environmental Assessment (EA) to evaluate the environmental effects of the Environmental Restoration Project at the Energy Technology Engineering Center (ETEC). The EA is being prepared in accordance with the Council of Environmental Quality's National Environmental Policy Act (NEPA) Implementing Regulations and the DOE NEPA Implementing Procedures of April 24, 1992, 10 CFR 1021. This notice announces DOE intent to prepare an EA and hold public scoping meetings for the proposed restoration project. This EA will analyze the potential environmental impacts associated with environmental restoration and closure waste management activities.

DATES: The public scoping period begins with the publication of this notice and will continue until October 30, 2000. Written comments postmarked by that date will be considered in the preparation of the EA. Comments postmarked after that date will be considered to the extent practicable.

Public scoping meetings will be held at the two locations and times indicated below. This information will be published in local public notices prior tot he meetings.

(1) Meeting: Woodland Hills, California

Date and time: October 17, 2000, 6 p.m. to 8 p.m.

Location: Warner Center Marriott Woodland Hills, 21850 Oxnard Street, Woodland Hills, CA 91367

(2) Meeting: Simi Valley, California

Date and time: October 18, 2000, 9 a.m. to 11 a.m.

Location: Rancho Santa Susana Community Center, 5005-C Los Angeles Avenue, Simi Valley, CA 93063.

Following the review period comments will be considered and changes made as necessary. The final EA will be published and distributed to interested parties. The NEPA process begins with this notice. The draft EA is anticipated to be available in February or March 2001. A forty-five day review period will be provided for public review following distribution of the draft EA. Review comments will be considered in the development of the final EA that should be distributed in June or July 2001.

ADDRESSES: Written comments on the scope of the EA or requests for information on the activities at ETEC should be sent to the following address: Ms. Donna Sutherland, Document Manager, U.S. Department of Energy, 1301 Clay Street, 700N, Oakland, CA 94612-5208, Phone (510) 637- 1563, Facsimile (510) 637-2031.

FOR FURTHER INFORMATION CONTACT: For general information on National Environmental Policy Act process or status of a NEPA review, please contact: Ms. Janet Neville, NEPA Compliance Officer, U.S. Department of Energy Oakland Operations Office, 1301 Clay Street, 700 N, Oakland, CA 94612-5208, Phone: (510) 637-1813, Messages: (510) 637-1813.

SUPPLEMENTARY INFORMATION: The ETEC site is within the Santa Susana Field Laboratory (SSFL) located between the Simi and San Fernando Valley, north of Los Angeles, California. The ETEC site occupies about 90 acres within Area IV of the SSFL. The ETEC site supported DOE projects for nuclear research and energy development. The site includes buildings which house test apparatus for large scale heat transfer and fluid mechanics experiments, mechanical and chemical test facilities, office buildings, and auxiliary support facilities. The ETEC site is surplus to the DOE's current mission and is undergoing closure. The site has numerous facilities, including some where chemical and radioactive substances were used. Contamination may exist in structures and the physical media including soils, surface and groundwater. Deactivation of the site includes divestment of assets, remediation of contaminated areas, waste management and site restoration.

This EA will analyze the potential environmental impacts associated with environmental restoration and closure waste management activities. Waste management activities include operation, maintenance and closure of Resource Conservation Recovery Act (RCRA) permitted facilities. The EA will also analyze environmental restoration activities for site-wide soil and groundwater remediation and the decontamination and decommissioning or dismantlement of government buildings and structures. Facilities to be D&D include former radiological facilities, former sodium facilities, and administrative facilities.

This notice announces DOE intent to prepare an EA and hold public scoping meetings for the proposed restoration project. This EA will analyze the potential environmental impacts associated with environmental restoration and closure waste management activities.

The scoping process will include notifying the general public, Federal, state, local, and tribal agencies of the proposed action. The purpose of scoping is to identify public and agency concerns, and alternatives to be considered in the EA. The DOE is preparing this EA to decide whether to issue a Finding of No Significant Impact or whether to prepare an Environmental Impact Statement (EIS). In consideration of the possibility that the DOE will decide to prepare an EIS, a Notice of Intent will be issued and written comments on the scope of alternatives and impacts will still be accepted at that future time. Presently, in preparation of an EA, comments may be submitted in writing and/or orally at the public scoping meeting or in writing prior to the end of the scoping period as indicated in the DATES section of this notice.

Issued in Oakland, California, on September 11, 2000.
Donna Sutherland,
Deputy Director, Oakland Environmental Programs Division.

[FR Doc. 00-23879 Filed 9-13-00; 11:59 am]

BILLING CODE 6450-01-M